DEPARTMENT OF DEFENSE

Office of the Secretary

Submission for OMB Review; Comment Request

ACTION: Notice.

SUMMARY: The Department of Defense has submitted to OMB for clearance, the following proposal for collection of information under the provisions of the Paperwork Reduction Act (44 U.S.C. Chapter 35).

DATES: Consideration will be given to all comments received by September 30, 2002.

Title, Form, and OMB Number: United States Navy Illicit Behavior Screening Certificate; NACRUIT Form 1133/65; OMB Number 0703—[New Collection].

Type of Request: New collection.

Number of Respondents: 65,000.

Responses Per Respondent: 1.

Annual Response: 65,000.

Average Burden Per Response: 12 minutes.

Annual Burden Hours: 13,000.

Needs and Uses: Used by the Navy Recruiting Command to assess an applicant's history of alcohol abuse, drug abuse, or other illicit behavior in determining a person's qualifications to enter military service. The collection of this information is needed in order to make a fair and reasonable enlistment eligibility determination of an applicant.

Affected Public: Individuals or households.

Frequency: On occasion.

Respondent's Obligation: Required to obtain or retain benefits.

OMB Desk Officer:

Ms. Jackie Zeiher. Written comments and recommendations on the proposed information collection should be sent to Ms. Zeiher at the Office of Management and Budget, Desk Officer for DoD, Room 10236, New Executive Office Building, Washington, DC 20503.

DoD Clearance Officer: Mr. Robert Crushing.

Written requests for copies of the information collection proposal should be sent to Mr. Cushing, WHS/DIOR, 1215 Jefferson Davis Highway, Suite 1204, Arlington, VA 22202-4302.

Dated: August 26, 2002.
Patricia L. Toppings,
Alternate OSD Federal Register Liaison Officer, Department of Defense.

[FR Doc. 02-22137 Filed 8-29-02; 8:45 am]

BILLING CODE 5001-08-M